CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) entitled Senior Corps Grant Application, formerly National Senior Service Corps Grant Application to the Office of Management and Budget (OMB) for review and approval in accordance with the Paperwork Reduction Act of 1995, Pub. L. 104-13, (44 U.S.C. Chapter 35). Copies of this ICR, with applicable supporting documentation, may be obtained by calling the Corporation for National and Community Service, Ms. Angela Roberts, at (202) 606-5000, extension 111. Individuals who use a telecommunications device for the deaf (TTY/TDD) may call (202) 606-5256 between the hours of 9 a.m. and 4 p.m. eastern time, Monday through Friday.

ADDRESSES: Comments may be submitted, identified by the title of the information collection activity, to the Office of information and Regulatory Affairs, Attn: Ms. Katherine Astrich, OMB Desk Officer for the Corporation for National and Community Service, by any of the following two methods listed in the address section, within 30 days from the date of publication in this Federal Register.

(1) By fax to: (202) 395-6974, Attention: Ms. Katherine Astrich, OMB Desk Officer for the Corporation for National and Community Service; and

(2) Electronically by e-mail to: Katherine_T._Astrich@omb.eop.gov.

Supplementary Information: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Comments

A 60-day public comment Notice was published in the Federal Register on December 5, 2004. The summary of comments received is as follows: A total of 17 written responses were received that represented a total of 39 individuals. One letter was written on behalf of an Association including the collective comments of 23 individuals. Each written response contained numerous separate comments or statements. In summary:

(a) Two comments were received about adding the DUNS number to Part I—Application Facesheet. The Corporation agrees and will do so.

(b) Two comments requested that the questions contained in both the Part III—Narrative and Part IV—Work Plans be clarified and contain more detail. The revised application includes these changes.

(c) Five comments were received about Part II—Budget, of which 3 were incorporated. The three reflected in the revised information collection are to clarify the types of items to enter on each budget line item; to provide clearer instruction; and to more thoroughly define the category on the budget form called “xcess.” Two comments were not included: A request to update formulas in a spreadsheet template, because the spreadsheet is no longer used; and a request to list the types of required documentation needed to respond to an audit. This last request is beyond the scope of the grant application's purpose. The information requested by the respondent can be found in Program Regulations.

(d) Two commenters thought the estimated burden was too low. The Corporation believes that burden estimate is adequate, particularly with upcoming improvements to the eGrants system, and has retained the original annualized time estimates.

(e) There was one comment each about the Volunteer Station Roster, requesting a standard user-friendly format; and one comment about sorting the list of Service Categories in the grant application in the same order as is used in the Progress Report. Both suggestions were incorporated.

(f) From a total of 9 general comments, 7 were beyond the scope of this information collection. Comments included two pleas to provide more federal funds to grantees; a request to change the method used to capture outcomes and outcome-based programming; a request to standardize at least one programmatic outcome for all RSVP grantees nationwide; one request to restrict the number of new data elements as much as possible. One general comment addressed the Corporation's ongoing system of “grading” its grantees on outcomes, which is factually incorrect, as the Corporation does not grade its grantees in this manner. Another comment asked the Corporation to lower the age and income eligibility for its Foster Grandparent and Senior Companion Programs, which was established and can only be changed through a legislative change. Two general comments asked for copies of the revised application package, which were provided.

(g) The 43 remaining comments, comprising the majority of all comments, requested changes to the Corporation's electronic grants management system, eGrants. While beyond the scope of this information collection, Senior Corps will share these comments with the Corporation's eGrants team. Also, Senior Corps will prepare an update for its grantees about the soon-to-debut version of eGrants Phase II, including the problems reported by the public that it will solve.

Description: The Corporation is seeking approval of the Senior Corps Grant Application which is used by current and prospective grantees to apply for sponsorship of projects under the Retired and Senior Volunteer Program (RSVP); the Foster Grandparent Program (FGP); the Senior Companion Program (SCP); the Senior Demonstration Program (SDP); and the Special Volunteer Program—Homeland Security (SVP). Completion of the Grant Application is required to be considered for sponsorship and the receipt of associated federal funds and benefits. Changes proposed include:

• Additional instructions to clarify budget, narrative, work plan, and performance measures sections;

• Updated the list of Service Categories used by applicants to identify the types of needs the national service participants meet;

• Use of a standard format for the supplemental Station Roster that is both user-friendly and that collects consistent information.

• New fields adopted by the eGovernment Initiative, including the required DUNS number; and

• Accurate correlation to the flow and references contained in the Corporation's electronic grants management system, eGrants, that is used by its grantees.

Type of Review: Revision of a currently approved collection.

Agency: Corporation for National and Community Service.

Title: Senior Corps Grant Application.

OMB Number: 3045-0035.

Agency Number: CNCS Form 424-NSSC.

Affected Public: Sponsors of National Senior Service Corps (Senior Corps) grants.

Total Respondents: 1,317.

Frequency: Annual.

Average Time Per Respondent: 13.5 for current grantees, and 16.5 for first time applicants.

Estimated Total Burden Hours: 17,121.

Total Burden Cost (capital/startup): None.

Total Burden Cost (operating/maintenance): $4,600.

Dated: February 22, 2005.
Tess Scannell,
Director, Senior Corps.

[FR Doc. 05-3716 Filed 2-25-05; 8:45 am]

BILLING CODE 6050-$$-P